DEPARTMENT OF THE INTERIOR

Bureau of Land Management

[OR-130-2810-HT; GP1-0258]

Notice of Regulated Fire Closure for Bureau of Land Management Public Lands in the State of Washington

AGENCY: Bureau of Land Management, Spokane District, Interior.

SUMMARY: Pursuant to 43 CFR 9212.2, the following acts are prohibited on public lands within the Spokane District, Bureau of Land Management (BLM) including Juniper Forest Area, Hog Canyon, Miller Ranch/Fishtrap Recreation Area, Pacific Lake, Twin Lakes, Coffeepot, Yakima River Canyon, Douglas Creek, Chopaka/Palmer Mountain, Split Rock, Liberty, Saddle Mountains, Lakeview Ranch/Lake Creek, Horse Heaven Hills, Duffy Creek Management Area, Boundary Dam, Escure Ranch/Rock Creek, and San Juan Island sites, beginning at 12:01 a.m. August 4, 2001 until further notice:

1. Building, maintaining, attending or using a fire, campfire or stove fire, including charcoal briquette fire including all improved campgrounds (43 CFR 9212.1(h)).

Note: Liquified and bottled gas stoves and heaters are permitted provided they are used within a designated campground or picnic areas.

2. Smoking while traveling in timber, brush or grass areas, except in vehicles on roads, on barren or cleared areas at least 3 feet in diameter, or boats on rivers and lakes. (43 CFR 9212.1(h)).

3. Operating any type of motorized vehicle off developed roadways. Parking of vehicles off roadways must be done in an area barren of flammable materials (43 CFR 9212.1(g)).

Note: Developed roadways are those that are clear of flammable debris, berm to berm.

Pursuant to 43 CFR 9212.3(a) the following persons are exempt from this order:

1. Persons with a permit that specifically authorized the otherwise prohibited act or omission (43 CFR 9212.3(a)).

2. Any Federal, State or local officer or a member of an organized rescue or firefighting force in the performance of an official duty (43 CFR 9212.2(3).

Violation of these prohibitions is punishable by a fine of not more than $1,000.00 or to imprisonment of not more than 12 months, or both (43 CFR 9212.4).

FOR FURTHER INFORMATION CONTACT: Scott Boyd, Fire Management Officer, Bureau of Land Management, Spokane District Officer, 1103 N. Fancher Road, Spokane, Washington, 99212; or call (509) 536-1200.

Dated: August 1, 2001.
Gary J. Yeager,
Acting District Manager.

[FR Doc. 01-21056 Filed 8-20-01; 8:45 am]

BILLING CODE 4310-33-P